DEPARTMENT OF STATE

[Public Notice 10699]

Notice of Receipt of Request From the Government of the Republic of Chile Under Article 9 of the 1970 UNESCO Convention on the Means of Prohibiting and Preventing the Illicit Import, Export and Transfer of Ownership of Cultural Property

SUMMARY: Notice of receipt of request from Chile for cultural property protection.

FOR FURTHER INFORMATION CONTACT: Allison Davis, Cultural Heritage Center, Bureau of Educational and Cultural Affairs: 202-632-6301; culprop@state.gov, include “Chile” in the subject line.

SUPPLEMENTARY INFORMATION: The Government of the Republic of Chile has made a request to the Government of the United States under Article 9 of the 1970 UNESCO Convention on the Means of Prohibiting and Preventing the Illicit Import, Export and Transfer of Ownership of Cultural Property. The United States Department of State received this request on February 4, 2019. Chile's request seeks U.S. import restrictions on archaeological material representing Chile's cultural patrimony. Pursuant to the authority vested in the Assistant Secretary of State for Educational and Cultural Affairs, and pursuant to 19 U.S.C. 2602(f)(1), notification of the request is hereby published. A public summary of Chile's request and information about U.S. implementation of the 1970 UNESCO Convention is available at the Cultural Heritage Center website: https://eca.state.gov/cultural-heritage-center.

Marie Therese Porter Royce,
Assistant Secretary, Bureau of Educational and Cultural Affairs, Department of State.

[FR Doc. 2019-04370 Filed 3-8-19; 8:45 am]

BILLING CODE 4710-05-P